DEPARTMENT OF LABOR

Occupational Safety and Health Administration

[Docket No. OSHA-2013-0006]

Advisory Committee on Construction Safety and Health (ACCSH)

AGENCY: Occupational Safety and Health Administration (OSHA), Labor.

ACTION: Announcement of a meeting of ACCSH.

SUMMARY: ACCSH will meet August 22-23, 2013, in Washington, DC.

DATES:

ACCSH meeting: ACCSH will meet from 10:00 a.m. to 1:00 p.m., E.T., Thursday, August 22, 2013, and Friday, August 23, 2013.

Written comments, requests to speak, speaker presentations, and requests for special accommodation: You must submit (postmark, send, transmit) comments, requests to address the ACCSH meeting, speaker presentations (written or electronic), and requests for special accommodations for the ACCSH meeting by August 15, 2013.

ADDRESSES: ACCSH meeting: ACCSH will meet in Room C-5515, 1A-B, U.S. Department of Labor, 200 Constitution Avenue NW., Washington, DC 20210.

Submission of comments, requests to speak, and speaker presentations: You may submit comments, requests to speak at the ACCSH meeting, and speaker presentations using one of the following methods:

Electronically: You may submit materials, including attachments, electronically at http://www.regulations.gov, which is the Federal eRulemaking Portal. Follow the on-line instructions for submissions.

Facsimile (Fax): If your submission, including attachments, does not exceed 10 pages, you may fax it to the OSHA Docket Office at (202) 693-1648.

Regular mail, express mail, hand delivery, or messenger (courier) service: You may submit your materials to the OSHA Docket Office, Docket No. OSHA-2013-0006, Room N-2625, U.S. Department of Labor, 200 Constitution Avenue NW., Washington, DC 20210; telephone (202) 693-2350 (TTY (877) 889-5627). OSHA's Docket Office accepts deliveries (hand deliveries, express mail, and messenger service) during normal business hours, 8:15 a.m.-4:45 p.m., E.T., weekdays.

Requests for special accommodations: Please submit your request for special accommodations to attend the ACCSH meeting to Ms. Frances Owens, OSHA, Office of Communications, Room N-3647, U.S. Department of Labor, 200 Constitution Avenue NW., Washington, DC 20210; telephone (202) 693-1999; email owens.frances@dol.gov.

Instructions: Your submissions must include the agency name and docket number for this Federal Register notice (Docket No. OSHA-2013-0006). Due to security-related procedures, submissions by regular mail may experience significant delays. Please contact the OSHA Docket Office for information about security procedures for making submissions. For additional information on submitting comments, requests to speak, and speaker presentations, see the SUPPLEMENTARY INFORMATION section of this notice.

OSHA will post comments, requests to speak, and speaker presentations, including any personal information you provide, without change, at http://www.regulations.gov. Therefore, OSHA cautions you about submitting personal information such as Social Security numbers and birthdates.

FOR FURTHER INFORMATION CONTACT:

For press inquiries: Mr. Frank Meilinger, Director, OSHA Office of Communications, Room N-3647, U.S. Department of Labor, 200 Constitution Avenue NW., Washington, DC 20210; telephone (202) 693-1999; email meilinger.francis2@dol.gov.

For general information about ACCSH and ACCSH meetings: Mr. Damon Bonneau, OSHA, Directorate of Construction, Room N-3468, U.S. Department of Labor, 200 Constitution Avenue NW., Washington, DC 20210; telephone (202) 693-2020; email bonneau.damon@dol.gov.

SUPPLEMENTARY INFORMATION:

ACCSH Meeting

ACCSH will meet August 22-23, 2013, in Washington, DC. Some ACCSH members will attend the meeting by teleconference. The meeting is open to the public.

ACCSH advises the Secretary of Labor and Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (29 U.S.C. 651 et seq.) (see also 29 CFR 1911.10 and 1912.3). In addition, the OSH Act and CSA require that OSHA consult with ACCSH before the Agency proposes any occupational safety and health standard affecting construction activities (29 CFR 1911.10; 40 U.S.C. 3704).

The tentative agenda for this meeting includes:

• Assistant Secretary's Agency update and remarks;

• Directorate of Construction update on rulemaking projects;

• National Institute for Occupational Safety and Health (NIOSH) update;

• Discussion of OSHA's Temporary Worker initiatives;

• Discussion of the 2-hour introduction to the OSHA 10-hour and 30-hour training courses;

• ACCSH's consideration of, and recommendations on, the following OSHA proposed rules affecting construction activities:

○ The following 12 items from the proposed Standards Improvement Project IV:

—Replace the definitions of “employee” and “employer” in 29 CFR 1926.32 with the definitions of those terms found in 29 CFR 1910.2;

—Correct and reformat table at 29 CFR 1926.55 (Threshold Limit Values) for clarity and consistency with its counterpart in the general industry standard at 29 CFR 1910.1000;

—Standardize break-strength requirements for lanyards and lifelines throughout the construction and general industry standards of 29 CFR parts 1910 and 1926;

—Clarify the excavation requirements at 29 CFR 1926.651(j)(1) and (2)—keeping loose rock and soil, and equipment and materials, away from the edge of excavations;

—Update the 29 CFR 1926.50 requirement to post emergency medical contact information in locations without 911 emergency services;

—Replace the 29 CFR 1926.64 requirements for process safety management of highly hazardous chemicals with a cross reference to the general industry regulations at 29 CFR 1910.119;

—Replace the outdated 29 CFR subpart W (Rollover Protective Structures; Overhead Protection) requirements with cross references to appropriate consensus standards;

—Amend the 29 CFR 1926.250(a)(2) requirement to post maximum safe-load limits for buildings under construction to exempt single family dwellings;

—Update the Definition of “Potable water” in 29 CFR 1926.51(a)(6) with the newer language found in the general industry standard at 29 CFR 1910.141(a)(2);

—Clarify the rules that a physician or other licensed health care professional must use to make a determination that a hearing-loss case is not work-related under 29 CFR 1904.10(b)(6);

—Remove requirements for chest x-rays in certain health standards, such as cadmium and inorganic arsenic, that affect construction employees; and

—Revisions to the x-ray requirements in the Asbestos standard at 29 CFR 1926.1101.

• Public comment period.

OSHA transcribes ACCSH meetings and prepares detailed minutes of meetings. OSHA places the transcript and minutes in the public docket for the meeting. The docket also includes speaker presentations, comments, and other materials submitted to ACCSH.

Public Participation, Submissions, and Access to Public Record

ACCSH meetings: All ACCSH meetings are open to the public. Individuals attending meetings at the U.S. Department of Labor must enter the building at the visitors' entrance, 3rd and C Streets NW., and pass through building security. Attendees must have valid government-issued photo identification (such as a driver's license) to enter the building. For additional information about building security measures for attending ACCSH meetings, please contact Ms. Owens (see ADDRESSES section).

Individuals needing special accommodations to attend the ACCSH meeting should contact to Ms. Owens as well.

Submission of written comments: You may submit comments using one of the methods identified in the ADDRESSES section. Your submissions must include the Agency name and docket number for this ACCSH meeting (Docket No. OSHA-2013-0006). OSHA will provide copies of submissions to ACCSH members.

Because of security-related procedures, submissions by regular mail may experience significant delays. For information about security procedures for submitting materials by hand delivery, express mail, and messenger or courier service, please contact the OSHA Docket Office (see ADDRESSES section).

Requests to speak and speaker presentations: If you want to address ACCSH at the meeting you must submit your request to speak, as well as any written or electronic presentation, by August 15, 2013, using one of the methods listed in the ADDRESSES section. Your request must state:

• The amount of time requested to speak;

• The interest you represent (e.g., business, organization, affiliation), if any; and

• A brief outline of your presentation.

PowerPoint presentations and other electronic materials must be compatible with PowerPoint 2010 and other Microsoft Office 2010 formats.

The ACCSH Chair may grant requests to address ACCSH as time and circumstances permit.

Public docket of the ACCSH meeting: OSHA will place comments, requests to speak, and speaker presentations, including any personal information you provide, in the public docket of this ACCSH meeting without change, and those documents may be available online at http://www.regulations.gov. Therefore, OSHA cautions you about submitting personal information such as Social Security numbers and birthdates.

OSHA also places in the public docket the meeting transcript, meeting minutes, documents presented at the ACCSH meeting, and other documents pertaining to the ACCSH meeting. These documents are available online at http://www.regulations.gov.

Access to the public record of ACCSH meetings: To read or download documents in the public docket of this ACCSH meeting, go to Docket No. OSHA-2013-0006 at http://www.regulations.gov. The http://www.regulations.gov index also lists all documents in the public record for this meeting; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, also are available on the OSHA Web page at http://www.osha.gov.

Authority and Signature

David Michaels, Ph.D., MPH, Assistant Secretary of Labor for Occupational Safety and Health, authorized the preparation of this notice under the authority granted by 29 U.S.C. 656; 40 U.S.C. 3704; 5 U.S.C. App. 2; 29 CFR parts 1911 and 1912; 41 CFR part 102; and Secretary of Labor's Order No. 1-2012 (77 FR 3912).

Signed at Washington, DC on July 18, 2013.
David Michaels,
Assistant Secretary of Labor for Occupational Safety and Health.

[FR Doc. 2013-17674 Filed 7-22-13; 8:45 am]

BILLING CODE 4510-26-P